FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202) 523-5793 or tradeanalysis@fmc.gov.

Agreement No.: 012439-002.

Title: THE Alliance Agreement.

Parties: Hapag-Lloyd AG and Hapag-Lloyd USA LLC (acting as one party); Kawasaki Kisen Kaisha, Ltd.; Mitsui O.S.K. Lines, Ltd.; Nippon Yusen Kaisha; and Yang Ming Marine Transport Corp and Yang Ming (UK) Ltd. (acting as one party).

Filing Party: Joshua Stein, Cozen O'Conner, 1200 Nineteenth Street NW, Washington, DC 20036.

Synopsis: The Amendment revises the Agreement to provide for the transition that will occur following the acquisition of the assets of the container liner operations of Kawasaki Kisen Kaisha, Ltd.; Mitsui O.S.K. Lines, Ltd.; and Nippon Yusen Kaisha by a new company known as Ocean Network Express Pte. Ltd. effective April 1, 2018. Ocean Network Express Pte. Ltd. is added as a party effective on the date of the transition referenced above. In addition, the Amendment adds Yang Ming (UK) Ltd. as a party (operating as a single party with Yang Ming Marine Transport Corp.) and adds Guatemala and India to the geographic scope of the Agreement.

By Order of the Federal Maritime Commission.
Dated: December 19, 2017.
Rachel E. Dickon,
Assistant Secretary.

[FR Doc. 2017-27640 Filed 12-21-17; 8:45 am]

BILLING CODE 6731-AA-P